GENERAL SERVICES ADMINISTRATION

[GSA Order ADM 1095.1F]

Environmental Considerations in Decisionmaking

AGENCY: Public Buildings Service, General Services Administration.

ACTION: Notice of final revisions to internal procedures.

SUMMARY: This notice announces that GSA is publishing final revised internal GSA procedures to be followed in implementing the requirements of section 102(2) of the National Environmental Policy Act of 1969, as amended (NEPA) (42 U.S.C. 4321, ital.); Executive Order 11514 of March 5, 1970, entitled “Protection and Enhancement of Environmental Quality,” and in compliance with regulations of the Council on Environmental Quality (40 CFR parts 1500-1508). The intended effect of these documents is to enhance GSA's ability to comply with NEPA, to exclude certain program actions from the requirement to prepare an environmental assessment (EA) or an environmental impact statement (EIS), to focus NEPA analysis to those actions that may be major Federal actions significantly affecting the quality of the human environment, and to make changes reflecting current GSA organization structure. These changes affect GSA internal procedures only.

EFFECTIVE DATE: October 19, 1999.

FOR FURTHER INFORMATION CONTACT: Mr. Colin Wagner, NEPA Liaison, Environmental Business Strategies, PXE 4046, Public Buildings Service, U.S. General Services Administration, 1800 F Street, N.W., Washington, D.C. 20405 (202-501-2888).

SUPPLEMENTARY INFORMATION: This revision updates and supercedes the February 25, 1985, [FR 7648] and December 8, 1995 GSA Order ADM 1095.1E. A draft of the procedures was published for public review and comment on June 26, 1998. Interested persons were asked to submit comments by July 27, 1998. The U.S. Environmental Protection Agency (EPA) requested and was given additional time to submit comments. No other requests for an extended comment period were received. Responses to comments plus other technical changes are described below. Copies of the PBS NEPA Desk Guide are available from GSA (see For Further Information, above) or on the Internet at: http://www.gsa.gov/pbs/pt/call-in/erlsub4.htm.

(1) Summary

The revised ADM Order 1095.1F and the PBS NEPA Desk Guide are administrative and procedural improvements intended to enhance GSA's ability to comply with NEPA and related legal authorities and Executive Orders, while also ensuring public involvement in decisionmaking. These improvements result from more than 25 years of agency experience with NEPA. Development of the revised ADM Order 1095.1F and the PBS NEPA Desk Guide was a multi-year process involving GSA National Office and Regional Office personnel who represent the agency's collective technical and managerial expertise in environmental quality and NEPA compliance. Members of the Environmental Quality Advisory Group (EQAG) represented GSA business lines and the 11 GSA regions.

(2) Comments and Responses

GSA received two comments on the proposed revisions, one from a Federal agency [USEPA] and one from a State agency.

a. USEPA provided no specific comments, stating: “In general, we find the revised orders and NEPA Desk Guide to be well written, comprehensive, clear and understandable. It serves as a good model for other agencies who may need to develop NEPA guidance specific to their mission.”

GSA appreciates the comment.

b. GSA received a comment from the Wyoming State Geological Survey stating that “studies involving the identification and evaluation of paleontologic resources“ on GSA property should be considered an automatic categorical exclusion from NEPA.

GSA disagrees with this comment. GSA believes that under certain circumstances evaluation of palentologic resources may involve excavations that have the potential to significantly affect the human environment, and therefore should be subject to more rigorous NEPA review. The NEPA review process is a practical planning tool in which GSA identifies other regulatory compliance issues. While excavations of paleontologic and archaeological resources are specifically governed by other legal authorities (such as the Archaeological Resources Protection Act), the integration of NEPA with other legal authorities is a policy established in the CEQ regulations. 40 CFR 1500.2(c) directs Federal agencies to “integrate the requirements of NEPA with other planning and environmental review procedures required by law or by agency practice so that all such procedures run concurrently rather than consecutively.” By including other planning and environmental reviews within the NEPA process, the process becomes comprehensive and cohesive, and issues may be identified. GSA has added a new Checklist CATEX that specifically addresses excavations and which requires preparation of the CATEX Checklist: 5.4(m): “Archaeological studies permitted under the Archaeological Resources Protection Act (ARPA) and paleontological studies.”

(3) Other Changes

GSA has also identified other paragraphs in the ADM and PBS NEPA Desk Guide that needed to be revised. The more substantive changes include the following:

a. Questions were raised as to why GSA needs to issue the new guidance in the form of an ADM order, a PBS order, and a PBS NEPA Desk Guide. There was substantial duplication between the PBS order and the PBS NEPA Desk Guide. The suggestion was to place the information contained in the PBS order in either the ADM or the PBS NEPA Desk Guide. This change would have no effect on the content or authority of the GSA orders.

This change has been made.

b. The title “NEPA Center of Expertise (NCE)” has been changed to “Regional Environmental Quality Advisor (REQA)”

c. Automatic CATEX 5.3 (a) has been narrowed from “Issuance of easements, licenses, or outleases for use of space in existing Federal office buildings, where consistent with local planning and zoning, provided Section 106 of the NHPA is complied with where applicable” to “Outleases, licenses, and other arrangements for non-federal use of space in existing Federal office buildings, where such use is consistent with local planning and zoning, where Section 106 of the NHPA is complied with where applicable; and there is no evidence of community controversy or unresolved environmental issues.”

d. Automatic CATEX 5.3(m) has been narrowed by adding the following text: “* * * where there is no evidence of unresolved environmental issues.”

e. One new Automatic CATEX has been added:

5.3(k) “Other repair and alteration projects where: 1) no toxic or hazardous substances are involved with the project or exist in or on the property where the project takes place; 2) no properties listed on or eligible for the National Register of Historic Places are involved; 3) the building envelope or foot-print will not be increased; 4) there is no evidence of community controversy; and 5) there is no evidence of other unresolved environmental issues.”

f. Checklist CATEX Section 5.4(d) has been changed from “Transfer of real property to government agencies” to “Transfer of real property to Federal, State, and local agencies, and Indian tribes.”

g. Checklist CATEX Section 5.4(h) has been changed from “Issuance of easements, licenses, or outleases for use of space in Federal facilities other than existing office buildings” to “Outleases, licenses, and other arrangements for non-federal use of land or space in facilities other than existing Federal office buildings.”

h. One new Checklist CATEX has been added to Section 5.4 and the section has been renumbered accordingly: 5.4(n) Installation of antennae consistent with FPMPD-242.

i. Additional circumstances which trigger a 30-day public review period for a FONSI before going ahead with the proposed action or deciding to prepare an EIS have been added to Desk Guide Section 6.10.3. The additional circumstances are based on the Council on Environmental Quality's “Forty Frequently Asked Questions,” Number 37b [46 FR 18026, March 23, 1981]:

(a) If the proposal is a borderline case, i.e., when there is a reasonable argument for preparation of an EIS;

(b) If it is an unusual case, a new kind of action, or a precedent setting case such as a first intrusion of even a minor development into a pristine area;

(c) When there is a scientific or public controversy over the proposal; or

(d) When it involves a proposal which is or is closely similar to one which normally requires preparation of an EIS.

(e) If the proposed action would be located in a floodplain or wetland.

Dated: October 19, 1999.
David J. Barram,
Administrator, General Services Administration.

GSA Order

Subject: Environmental Considerations in Decisionmaking

1. Purpose. This order establishes policy and assigns responsibility for implementing the National Environmental Policy Act (NEPA), its implementing regulations, and related laws, executive orders, and regulations in the decisionmaking processes of the General Services Administration (GSA).

2. Cancellation. ADM 1095.1E, dated December 8, 1995, is canceled.

3. Background. The National Environmental Policy Act (NEPA) and the Government wide implementing regulations of the Council on Environmental Quality (40 CFR 1500-1508, hereinafter, the CEQ regulations) require that each Federal agency consider the impact of its actions on the human environment, and prescribes procedures to be followed in doing so. Other laws, executive orders, and regulations provide related direction. Each Federal agency is required to implement internal procedures to ensure that the requirements of NEPA are met. Existing orders are out of date and do not provide for current requirements.

4. Nature of revision. This revision reflects a thorough internal review of GSA's systems for implementing NEPA. It replaces an interim order, ADM 1095.1E, which was adopted to govern GSA's compliance with NEPA while this review took place. This revised order is issued in coordination with an explanatory desk guide to NEPA review, which together provide GSA with an efficient, up-to-date NEPA compliance system that is consistent with principles of accountability, flexibility, and environmental responsibility.

5. Policy: In all its decisionmaking, GSA will attend carefully to the National Environmental Policy set forth in Section 101 of NEPA. To the maximum extent practicable, GSA will ensure that its actions protect and where possible improve the quality of the human environment, including the built and sociocultural environments of the nation's urban areas. GSA decisionmakers will use the NEPA review process prescribed in the CEQ regulations as a practical planning tool, and integrate both the NEPA review process and the Section 101 National Environmental Policy into decisionmaking in an efficient, cost-effective manner. The NEPA review process will be initiated at the earliest possible stage in planning any GSA action, and will be carried forward in coordination with other planning activities. Decisionmakers will ensure that they have reviewed and fully understand the environmental impacts of each decision, before making any such decision. All managers responsible for decisionmaking on GSA actions will be accountable for being knowledgeable about, and attendant to, the requirements of NEPA and the National Environmental Policy that these requirements are designed to advance.

6. Responsibilities.

6a. Commission, Public Buildings Service (PBS).

6.a.(1) The Commissioner acts for the Administrator, GSA, on matters relating to NEPA implementation, and oversees implementation of this order. This ADM, the NEPA Desk Guide, and related direction governs GSA compliance with NEPA and related legal authorities.

6.b. NEPA Liaison.

6.b.(1) Is the principal GSA advisor on NEPA-related requirments, including but not limited to compliance with NEPA and the coordination of NEPA compliance with the requirements of the laws and regulations listed in Appendix 1 of the NEPA Desk Guide.

6.b.(2) Provides expert advise on NEPA-related matters to GSA Heads of Services, Business Lines, and Regional Administrators.

6.b.(3) Provides intra-agency and interagency liaison and coordination on NEPA-related matters on a national basis.

6.b.(4) Provides the periodically updates GSA program guidance, after consultation with the General Counsel, Heads of Services, Business Lines, and Regional Administrators.

6.b.(5) Provides education and training within GSA pertinent to implementation of NEPA and related authorities.

6.b.(6) Coordinates with GSA's Environmental Executive in maintaining a record of GSA's environmental activities, and in advancing the national environmental policy articulated in NEPA and other statues and executive orders.

6.b.(7) Serves as GSA representative in coordination with outside groups at the national level regarding NEPA-related matters.

6.c. Regional Administrators.

6.c.(1) Are accountable for execution of GSA's responsibilities under NEPA and related authorities with respect to actions under their jurisdiction.

6.c.(2) Serve as the responsible agency official under CEQ regulations with respect to the environmental effects of actions under their jurisdiction.

6.c.(3) Maintain NEPA Regional Environmental Quality Advisors (REQA) within their staffs, augmented as necessary through interagency agreements and contracts, to ensure regional interdisciplinary competence in environmental matters.

6.c.(4) In consultation with the NEPA Liaison, ensure that all regional staff with responsibility for planning, approving, and implementing construction, repair, alteration, site and facility acquisition, real property management, maintenance, and real property disposal receive appropriate training in how to carry out GSA's responsibilities under NEPA and related authorities.

6.d. GSA Environmental Executive.

6.d.(1) Serves as GSA's Environmental Executive under Executive Order 12873.

6.d.(2) Coordinates with the NEPA Liaison to ensure agency-wide consistency in areas of shared or related responisiblity, and in advancing the national environmental policy articulated in NEPA and other statutes and executive orders.

6.e. Heads of Services and Business Lines.

6.e.(1) Serve as the responsible agency officials under CEQ regulations for actions subject to their approval.

6.e.(2) Ensure accountability for implementation of the policy set forth in this order.

6.e.(3) In consultation with the NEPA Liaison, ensure that staff responsible for supporting the functions of the responsible agency official under CEQ and related authorities receive appropriate training in how to carry out GSA's responsibilities.

6.f. The Office of General Counsel.

6.f.(1) Is responsible for legal interpretation of NEPA and related authorities, and represents GSA in litigation under such authorities.

6.f.(2) Advises the NEPA Liaison during the development and delivery of guidance and training.

7. Administrative Guidance.

7.a. The NEPA Liaison has overall program responsibility for establishing procedures, training, and professional standards, and for maintaining interagency administrative responsibilities and relationships. These functions will be carried out at the working level by a professional NEPA Liaison staff.

7.b. Heads of Services and Business Lines will assist and cooperate with the NEPA Liaison in the development and delivery of training, as well as procedural and program guidance, and act as coordinators for program needs of the Services and Business lines on a national basis.

7.c. Regional Business Lines have responsibility for ensuring that NEPA compliance responsibilities are satisfied, and the policy articulated in paragraph 5 of this order is followed, with respect to their programs and projects. In consultation with the REQA, the Business Lines will utilize interdisciplinary professional expertise in their implementation of NEPA responsibilities.

8. Implementation of NEPA and Related Authorities.

8.a. In accordance with applicable regulations and standards, and with program guidance provided by the NEPA Liaison, the responsible agency official shall:

8.a.(1) Ensure that the applicable requirements of NEPA and related authorities are met in a timely manner during planning for any GSA action, in a manner consistent with the policy articulated in paragraph 5 of this order.

8.a.(2) Ensure that mitigation measures established through review of actions under NEPA and related authorities are carried out as part of implementing the actions.

8.a.(3) Ensure that the means by which GSA has met its responsibilities, and the costs involved in doing so, are fully documented.

8.b. All Heads of Service, Business Lines, and Regional Offices will employ the PBS NEPA Desk Guide, issued and periodically updated by the NEPA Liaison, as guidance in carrying out this order.

9. Effective Date. Every effort shall be made to implement the provisions of this order immediately.

[FR Doc. 00-29263 Filed 11-16-00; 8:45 am]

BILLING CODE 2820-BR-M